DEPARTMENT OF TRANSPORTATION

[Docket No. MARAD-2014-0102]

Agency Requests for Renewal of a Previously Approved Information Collection(s): Request for Waiver of Service Obligation, Request for Deferment of Service Obligation, and Application for Review of Waiver/Deferment Decision

AGENCY: Maritime Administration.

ACTION: Notice and request for comments.

SUMMARY: The Department of Transportation (DOT) invites public comments about our intention to request the Office of Management and Budget (OMB) approval to renew an information collection. These information collections are for midshipmen or graduates of the United States Merchant Marine Academy (USMMA) or cadets or graduates of a State Maritime Academy (SMA) who received Student Incentive Payment (SIP) Program payments to determine if: (1) A waiver should be granted of all or a portion of the service obligation contract in cases where there would be undue hardship or impossibility of performance due to accident, illness or other justifiable reasons; (2) a deferment of all or a portion of the service obligation should be granted for the purpose of entering a marine or maritime-related graduate course of study; or (3) an original decision of items 1 or 2 should be overturned based on a student or graduate's appeal. Their service obligation is required by law. We are required to publish this notice in the Federal Register by the Paperwork Reduction Act of 1995, Public Law 104-13.

DATES: Written comments should be submitted by September 12, 2014.

ADDRESSES: You may submit comments identified by Docket No. MARAD-2014-0102 through one of the following methods:

• Federal eRulemaking Portal: http://www.regulations.gov. Follow the online instructions for submitting comments.

• Mail or Hand Delivery: Docket Management Facility, U.S. Department of Transportation, 1200 New Jersey Avenue SE., West Building, Room W12-140, Washington, DC 20590, between 9 a.m. and 5 p.m., Monday through Friday, except on Federal holidays.

• Fax: 1-202-493-2251.

FOR FURTHER INFORMATION CONTACT: Anne Wehde, (202) 366-5469, Director, Office of Maritime Workforce Development, U.S. Department of Transportation, 1200 New Jersey Avenue SE., Washington, DC 20590.

SUPPLEMENTARY INFORMATION:

OMB Control Number: 2133-0510.

Title: Request for Waiver of Service Obligation, Request for Deferment of Service Obligation, and Application for Review of Waiver/Deferment Decision.

Form Numbers: MA-935, MA-936, MA-937.

Type of Review: Renewal of an information collection.

Background: The Information collection is essential for determining if a student or graduate of the USMMA or a SMA that participated in the Student Incentive Payment (SIP) Program has a valid circumstance preventing them from fulfilling the requirements of the service obligation contract signed at the time of their enrollment in USMMA or the SIP program. It also permits the Maritime Administration (MARAD) to determine if a graduate, who wishes to defer their service obligation to attend graduate school, is eligible to receive a deferment. Student or graduates who submit a waiver or deferral request have an opportunity to appeal MARAD's decision. This collection is essential for determining if the original decision for a waiver or deferral request should be overturned. Their service obligation is required by law.

Number of Respondents: 11.

Frequency: Annually.

Number of Responses: 11.

Total Annual Burden: 3.30.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; pages 19477-78) or you may visit http://www.regulations.gov.

Authority: The Paperwork Reduction Act of 1995; 44 U.S.C. Chapter 35, as amended; and 49 CFR 1.93.

Dated: July 7, 2014.
Christine Gurland,
Acting Secretary, Maritime Administration.

[FR Doc. 2014-16322 Filed 7-11-14; 8:45 am]

BILLING CODE 4910-81-P